DEPARTMENT OF AGRICULTURE

Food Safety and Inspection Service

[Docket No. FSIS-2019-0018]

Notice of Request for Revision of an Approved Information Collection: Certificates of Medical Examination

AGENCY: Food Safety and Inspection Service, USDA.

ACTION: Notice and request for comments.

SUMMARY: In accordance with the Paperwork Reduction Act of 1995 and Office of Management and Budget (OMB) regulations, the Food Safety and Inspection Service (FSIS) is announcing its intention to revise the approved information collection regarding certificates of medical examination. FSIS is adding two new forms to the existing information collection. The Agency has increased the burden estimate by 59 hours due to the addition of these forms. The approval for this information collection will expire on January 31, 2022.

DATES: Submit comments on or before September 9, 2019.

ADDRESSES: FSIS invites interested persons to submit comments on this Federal Register notice. Comments may be submitted by one of the following methods:

• Federal eRulemaking Portal: This website provides commenters the ability to type short comments directly into the comment field on the web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2019-0018. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Gina Kouba, Office of Policy and Program Development, Food Safety and Inspection Service, USDA, 1400 Independence Avenue SW, Room 6065, South Building, Washington, DC 20250-3700; (202) 720-5627.

SUPPLEMENTARY INFORMATION:

Title: Certificates of Medical Examination.

OMB Control Number: 0583-0167.

Expiration Date: 1/31/2022.

Type of Request: Revision of an approved information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

FSIS is requesting revision of the approved information collection regarding certificates of medical examination, by adding two new medical examination forms to the collection. The Agency has increased the burden estimate by 59 hours due to the addition of these forms for completion by health care providers. FSIS employees will ask their health care providers to complete FSIS Form 4306-5, “Medical Documentation for Employee's Reasonable Accommodation Request,” if they apply for a reasonable accommodation, and FSIS Form 4630-8, “Confidential Medical Information,” if they apply for the FSIS Leave Bank Program. The approval for this information collection will expire on January 31, 2022.

The current information collection approval includes FSIS Form 4339-1, “Certificate of Medical Examination (with Medical History).” FSIS uses this form to determine whether an applicant for a Food Inspector, Consumer Safety Inspector, or Veterinary Medical Officer in-plant position meets the medical qualification standards for the position approved by the Office of Personnel Management (OPM). The certificates of medical examination ensure accurate collection of the required data. The OPM-approved medical qualification standards apply only to positions in FSIS, not positions in other Federal agencies.

When requesting that applicants for the positions listed above undergo the medical examination, a representative of FSIS notifies the applicants in writing of the reasons for the examination, the process, and the consequences of the failure to report for an examination or provide medical documentation. Any physical condition that would hinder an individual's full, efficient, and safe performance of his or her duties is considered disqualifying for employment, except when the individual presents convincing evidence that he or she can perform the essential functions of the job efficiently and without hazard.

In addition to the FSIS Form 4339-1, FSIS is adding two new medical examination forms for completion by health care providers to the information collection. First, FSIS will use the FSIS Form 4306-5, “Medical Documentation for Employee's Reasonable Accommodation Request,” to help determine whether the Agency will provide reasonable accommodation to qualified individuals. In accordance with the Rehabilitation Act of 1973 and the Americans with Disabilities Act Amendments Act of 2008, FSIS will make reasonable accommodations for the known physical or mental limitations of qualified individuals with disabilities, unless the accommodation would impose an undue hardship on the operation of FSIS. FSIS will require medical information from a health care provider to determine whether the person's condition rises to the level of disability under the law and to determine whether the limitations can be effectively accommodated.

Second, FSIS will use FSIS Form 4630-8 “Confidential Medical Information,” to assist employees who qualify as leave recipients under the FSIS Leave Bank Program (LBP), which FSIS intends to establish in accordance with 5 CFR 630, subpart J. To qualify, employees who have exhausted their paid leave (annual and sick) would need to meet the criteria for a financial hardship due to a personal or family medical emergency. Employees would also need to provide written certification from a physician describing the medical emergency and its severity, the anticipated duration of the medical emergency, and the approximate frequency of the medical emergency (if recurring). The documentation from the physician would include the name and address of the practice and requires the doctor's signature. For long-term and extended absences, medical documentation needs to be updated every 120 days until the medical emergency concludes.

FSIS has made the following estimates based upon an information collection assessment:

Estimate of Burden: FSIS estimates that it will take each respondent an average of 90 minutes to complete the FSIS Form 4339-1, 10 minutes to complete the FSIS Form 4306-5, and 15 minutes to complete the FSIS Form 4630-8.

Respondents: Health Care Providers.

Estimated Total Number of Annual Respondents: 800 respondents.

Estimated Number of Responses per Respondent: 1.

Estimated Total Annual Burden on Respondents: 809 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done in Washington, DC.
Paul Kiecker,
Deputy Administrator.

[FR Doc. 2019-14509 Filed 7-8-19; 8:45 am]

BILLING CODE 3410-DM-P